DEPARTMENT OF HOMELAND SECURITY

Coast Guard

[CGD05-03-184]

Area Maritime Security Committee, Captain of the Port Baltimore, Maryland

AGENCY: Coast Guard, DHS.

ACTION: Notice of meeting.

SUMMARY: The Area Maritime Security (AMS) Committee for the Captain of the Port Baltimore, MD zone will meet to discuss various issues relating to maritime security for the Captain of the Port Baltimore zone. The meeting will be open to the public.

DATES: The meeting will be held on Thursday, December 18, 2003, from 1 p.m. to 4 p.m. Comments and related material must reach the Coast Guard on or before December 8, 2003.

ADDRESSES: The meeting will be held at the Maritime Institute of Technology and Graduate Studies (MITAGS), 5700 Hammonds Ferry Road, Linthicum Heights, MD. You may mail comments and related material to Commander, U.S. Coast Guard Activities, 2401 Hawkins Point Road, Baltimore, MD 21226-1791. Comments and materials received from the public, as well as documents indicated in this preamble as being available in the docket, are part of docket [CGD05-03-184] and are available for inspection of copying at U.S. Coast Guard Activities, 2401 Hawkins Point Road, Baltimore, MD, 21226-1791.

FOR FURTHER INFORMATION CONTACT: Lieutenant Charles Bright at U.S. Coast Guard Activities Baltimore, telephone 410-576-2676 or Petty Officer Courtney Dawkins, telephone 410-576-2616, of the Planning and Preparedness Division. Comments and related material may be faxed to 410-576-2553.

SUPPLEMENTARY INFORMATION: Section 102 of the Maritime Transportation Security Act (MTSA) of 2002 (Pub. L. 107-295) added section 70112 to Title 46 of the U.S. Code, and authorizes the Secretary of the Department in which the Coast Guard is operating to establish Area Maritime Security Advisory Committees (AMS Committees) for any port area of the United States. The MTSA includes a provision exempting these AMS Committees from the Federal Advisory Committee Act (FACA), Pub. L. 92-436, 86 Stat. 470 (5 U.S.C. App. 2). The Coast Guard COTP Baltimore is holding a public meeting, in order to introduce the public to the purpose of and applications procedure for their AMS Committee. This meeting will serve as a general overview of the work that AMS Committee members will be completing, as well as offer the public the opportunity to ask questions regarding membership on the AMS Committee.

Agenda of Meeting

The agenda includes the following:

(1) General Welcome and Introduction.

(2) Review and Discussion of Maritime Security Regulations.

(3) General Committee Structure and Processes.

(4) Review and Discussion Area Maritime Plan.

(5) Frequency of Area Maritime Security meetings.

(6) Open Forum.

Procedural

The meeting is open to the public. Please note that the meeting may close early if all business is finished. At the Captain of the Port's discretion, members of the public may make oral presentations during the meeting. If you would like to make an oral presentation at the meeting, please notify Petty Officer Dawkins listed under FOR FURTHER INFORMATION CONTACT no later than December 8, 2003. Written material for distribution at the meeting should reach the Coast Guard no later than December 8, 2003. If you would like a copy of your material distributed at the meeting, please submit 40 copies to the Coast Guard listed under ADDRESSES.

Information on Services for Individuals With Disabilities

For information on facilities or services for individuals with disabilities or to request special assistance at the meeting, contact the Maritime Institute of Technology and Graduate Studies (MITAGS) as soon as possible.

Dated: November 14, 2003.
Curtis A. Springer,
Captain, Coast Guard, Captain of the Port, Baltimore, Maryland.

[FR Doc. 03-29651 Filed 11-26-03; 8:45 am]

BILLING CODE 4910-15-P